OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2020, as required by Civil Service Rule VI, Exceptions from the Competitive Service.

FOR FURTHER INFORMATION CONTACT: Julia Alford, Senior Executive Resources Services, Senior Executive Service and Performance Management, Employee Services, 202-606-2246.

SUPPLEMENTARY INFORMATION: Civil Service Rule VI (5 CFR 6.1) requires the U.S. Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval.

OPM maintains continuing information on the status of all Schedule A, B, and C appointing authorities. Interested parties needing information about specific authorities during the year may obtain information by writing to the Senior Executive Resource Services, Office of Personnel Management, 1900 E Street NW, Room 7412, Washington, DC 20415, or by calling (202) 606-2246.

The following exceptions are current as of June 30, 2020.

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-,2-, 3-, 4-, or 5-year increments indefinitely thereafter.

(i) (Reserved)

(j) U.S. Military Academy Preparatory School, West Point, New York—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command—

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: Security (GS-0080), intelligence analysts (GS-0132), investigators (GS-1810), investigative analyst (GS-1805), and criminal investigators (GS-1811) at the General Schedule (GS) grade levels 09-15. No new appointments may be made under this authority after January 5, 2021 or the effective date of the completion of regulations

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entry men-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Positions in support of decennial operations (including decennial pre-tests). Appointments may be made on a time limited basis that lasts the duration of decennial operations but may not exceed 7 years. Extensions beyond 7 years may be requested on a case-by-case basis

(2) Positions of clerk, field representative, field leader, and field supervisor in support of data collection operations (non-decennial operations). Appointments may be made on a permanent or a time-limited basis. Appointments made on a time limited basis may not exceed 4 years. Extensions beyond 4 years may be requested on a case-by-case basis.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) Reserved

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Director and Deputy Resident Country Director, Threshold Director and Deputy Threshold Director. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which part are of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: the Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12 through GS-15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3-years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms—

(1) Positions, grades GS-5 through GS-12 (or equivalent), of Criminal Investigator. Service under this authority may not exceed 3 years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) A total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Center for Leadership Development—No more than 72 positions of faculty members at grades GS-13 through GS-15. Initial appointments under this authority may be made for any period up to 3 years and may be extended in 1, 2, or 3-year increments.

Schedule C

Agency name | Organization name | Position title | Authorization No. | Effective date
DEPARTMENT OF AGRICULTURE | Office of the Under Secretary for Farm Production and Conservation | Policy Advisor | DA200035 | 01/09/2020
| Agricultural Marketing Service | Chief of Staff Special Assistant | DA190173 DA190200 | 07/22/2019 09/12/2019
| Farm Service Agency | State Executive Director—Tennessee | DA200040 | 01/23/2020
|  | State Executive Director—North Carolina | DA200070 | 04/16/2020
| Foreign Agricultural Service | Senior Advisor | DA200064 | 04/24/2020
| National Institute of Food and Agriculture | Policy Advisor | DA200049 | 03/04/2020
| Natural Resources Conservation Service | Chief of Staff | DA200065 | 03/23/2020
| Office of Communications | Deputy Director of Communications | DA200087 | 06/17/2020
|  | Press Secretary | DA200082 | 06/23/2020
|  | Press Assistant | DA190211 | 11/19/2019
| Office of the Assistant Secretary for Administration | Senior Advisor | DA190203 | 09/13/2019
| Office of the Assistant Secretary for Congressional Relations | Director of Intergovernmental Affairs (2) | DA200042 DA200080 | 01/22/2020 06/24/2020
|  | Senior Policy Advisor | DA200097 | 06/26/2020
|  | Chief of Staff | DA190207 | 09/17/2019
|  | Congressional and Policy Advisor (2) | DA200008 DA200024 | 10/25/2019 12/03/2019
| Office of the Secretary | Advance Associate | DA200043 | 03/30/2020
|  | Advance Lead | DA190187 | 09/04/2019
|  | Confidential Assistant (3) | DA190180 DA190217 DA200010 | 07/29/2019 10/01/2019 10/29/2019
|  | Deputy Director of Advance | DA190193 | 08/27/2019
|  | Deputy Director of Scheduling (2) | DA190186 DA190208 | 08/16/2019 09/16/2019
|  | Director of Operations | DA190195 | 08/26/2019
|  | Legislative Correspondent (3) | DA200051 DA200095 DA200017 | 03/30/2020 06/26/2020 11/13/2019
|  | Special Assistant | DA200028 | 12/17/2019
|  | Special Assistant and Advisor | DA200016 | 11/19/2019
|  | Staff Assistant | DA190192 | 08/23/2019
|  | White House Liaison | DA200005 | 10/22/2019
| Office of the Under Secretary for Food Safety | Staff Assistant | DA200020 | 11/25/2019
| Office of the Under Secretary for Research, Education, and Economics | Chief of Staff | DA200091 | 06/17/2020
| Office of the Under Secretary for Rural Development | Confidential Assistant (2) | DA190188 DA200025 | 08/16/2019 12/03/2019
| Office of the Under Secretary for Trade and Foreign Agricultural Affairs | Chief of Staff | DA200066 | 06/26/2020
| Office of Under Secretary for Natural Resources and Environment | Senior Policy Advisor Staff Assistant | DA200021 DA190167 | 01/10/2020 07/12/2019
| Risk Management Agency | Policy Advisor | DA200015 | 11/13/2019
| Rural Business Service | Confidential Assistant (2) | DA200047 DA190171 | 02/12/2020 07/23/2019
| Rural Development | Confidential Assistant | DA200074 | 06/10/2020
| Rural Housing Service | Confidential Assistant | DA190201 | 09/12/2019
|  | Policy Advisor | DA200004 | 07/12/2019
|  | State Director—Hawaii | DA190214 | 09/25/2019
|  | State Director—Louisiana | DA200007 | 10/25/2019
|  | State Director—Mississippi | DA200085 | 06/09/2020
|  | State Director—New Mexico | DA200079 | 05/08/2020
|  | State Director—North Carolina | DA190160 | 07/02/2019
|  | State Director—Wyoming | DA190168 | 07/09/2019
DEPARTMENT OF COMMERCE | Advocacy Center | Policy Advisor | DC190137 | 09/05/2019
| Office of the Assistant Secretary for Industry and Analysis | Senior Advisor (2) | DC200109 DC190162 | 04/24/2020 10/24/2019
| Bureau of Industry and Security | Senior Advisor Legislative Affairs Specialist | DC200059 DC200095 | 01/30/2020 05/04/2020
|  | Director of Congressional and Public Affairs | DC200022 | 12/13/2019
| Bureau of the Census | Senior Advisor | DC200146 | 06/24/2020
| Director General of the United States and Foreign Commercial Service and Assistant Secretary for Global Markets | Senior Advisor | DC190143 | 08/15/2019
| Immediate Office | Special Advisor (2) | DC200068 DC190124 | 03/04/2020 08/08/2019
| International Trade Administration | Advisor Chief of Staff | DC200118 DC190125 | 05/07/2020 09/05/2019
|  | Senior Advisor | DC200108 | 05/11/2020
|  | Special Advisor | DC200065 | 03/04/2020
| Minority Business Development Agency | Associate Director Confidential Assistant | DC200074 DC200120 | 04/17/2020 05/19/2020
|  | Executive Director | DC190123 | 12/06/2019
|  | Senior Advisor | DC200005 | 10/25/2019
|  | Special Assistant (2) | DC190170 DC190153 | 10/04/2019 11/04/2019
| National Telecommunications and Information Administration | Senior Advisor (2) | DC200034 DC200127 | 03/06/2020 06/04/2020
| Office—Federal Coordinator—Meteorology | Confidential Assistant | DC200139 | 06/30/2020
| Office of Advance, Scheduling and Protocol | Advance Assistant Advance Representative | DC200111 DC190119 | 05/07/2020 07/11/2019
|  | Special Assistant | DC190132 | 08/06/2019
|  | Advance Specialist | DC190134 | 08/06/2019
| Office of Business Liaison | Senior Advisor for Policy and Engagement | DC200048 | 01/31/2020
|  | Deputy Director, Office of Business Liaison | DC200016 | 02/03/2020
| Office of Executive Secretariat | Special Assistant Confidential Assistant | DC200092 DC190135 | 04/24/2020 08/16/2019
| Office of Legislative and Intergovernmental Affairs | Associate Director for Legislative Affairs | DC190155 | 10/10/2019
|  | Confidential Assistant | DC200014 | 01/31/2020
|  | Intergovernmental Affairs Specialist | DC190156 | 10/10/2019
|  | Legislative Affairs Specialist | DC190154 | 10/11/2019
| Office of Policy and Strategic Planning | Strategic Advisor Special Assistant | DC200077 DC200067 | 02/26/2020 03/04/2020
|  | Senior Advisor | DC200113 | 05/14/2020
| Office of Public Affairs | Deputy Director of Public Affairs | DC200131 | 06/30/2020
|  | Press Assistant | DC190122 | 07/24/2019
|  | Deputy Press Secretary | DC200017 | 12/11/2019
| Office of the Assistant Secretary for Economic Development | Special Advisor | DC190127 | 07/23/2019
| Office of the Chief Financial Officer and Assistant Secretary for Administration | Special Assistant (2) Confidential Assistant | DC200050 DC200072 DC190171 | 01/17/2020 05/06/2020 10/17/2019
| Office of the Chief of Staff | Senior Advisor | DC200003 | 01/17/2020
|  | Deputy Chief of Staff for Strategic Initiatives | DC200062 | 02/11/2020
|  | Confidential Assistant | DC200007 | 02/19/2020
|  | Deputy Director of Advance | DC200066 | 04/13/2020
| Office of the Deputy Secretary | Senior Advisor (3) | DC200044 DC200100 DC190128 | 01/22/2020 04/08/2020 07/24/2019
|  | Special Advisor | DC190148 | 11/04/2019
|  | Special Assistant | DC200088 | 04/20/2020
| Office of the General Counsel | Confidential Assistant (2) | DC200019 DC200046 | 01/27/2020 02/12/2020
|  | Counsel (6) | DC200028 | 01/03/2020
|  |  | DC200021 | 01/31/2020
|  |  | DC190129 | 07/24/2019
|  |  | DC190166 | 10/11/2019
|  |  | DC200004 | 11/22/2019
|  |  | DC190157 | 12/03/2019
|  | Director of Operations for Special Projects | DC190159 | 10/24/2019
|  | Senior Counsel (2) | DC190130 DC190152 | 07/24/2019 11/04/2019
| Office of the Under Secretary | Policy Advisor Special Advisor | DC190142 DC190136 | 08/13/2019 07/25/2019
|  | Senior Advisor (2) | DC200058 DC190138 | 02/25/2020 09/05/2019
|  | Deputy Director of Public Affairs | DC190117 | 08/06/2019
| Office of the Under Secretary for Economic Affairs | Confidential Assistant | DC190121 | 07/18/2019
| Office of White House Liaison | Confidential Assistant (3) | DC200030 DC200105 DC200140 | 01/03/2020 04/10/2020 06/18/2020
|  | Deputy White House Liaison | DC200080 | 03/09/2020
|  | Director, Office of White House Liaison | DC200043 | 01/31/2020
|  | White House Liaison | DC200084 | 03/13/2020
COMMODITY FUTURES TRADING COMMISSION | Commodity Futures Trading Commission | Legislative and Policy Analyst | CT200004 | 04/20/2020
| Division of Clearing and Risk | Director | CT190005 | 07/15/2019
| Office of External Affairs | Director | CT190008 | 07/15/2019
| Office of the Chairperson | Executive Assistant | CT190004 | 07/15/2019
|  | Senior Advisor | CT190006 | 07/15/2019
|  | Director of Legislative and Intergovernmental Affairs | CT190009 | 07/29/2019
DEPARTMENT OF DEFENSE | Office of the Assistant Secretary of Defense (Legislative Affairs) | Special Assistant (6) | DD200075 DD200157 DD190188 DD190210 DD200058 DD200046 | 02/12/2020 04/20/2020 09/09/2019 10/16/2019 01/14/2020 12/09/2019
| Office of the Assistant to the Secretary of Defense (Public Affairs) | Special Assistant (4) | DD200117 DD200122 DD200136 DD200115 | 02/26/2020 03/11/2020 03/27/2020 03/30/2020
| Office of the Chief Management Officer | Special Assistant | DD200105 | 02/14/2020
| Office of the Deputy Under Secretary of Defense (Policy) | Deputy Assistant Secretary of Defense (China) | DD200063 | 01/14/2020
|  | Special Assistant (2) | DD200121 DD200011 | 02/28/2020 10/18/2019
| Office of the Secretary | Defense Fellow | DD190207 | 09/27/2019
| Protocol Officer (3) | DD200185 DD200186 DD190179 | 05/27/2020 05/30/2020 09/06/2019
|  | Special Assistant (2) | DD190168 DD200041 | 08/06/2019 12/05/2019
| Office of the Secretary of Defense | Defense Fellow | DD200074 | 02/12/2020
|  | Speechwriter (2) | DD200189 DD190154 | 06/05/2020 08/29/2019
| Office of the Under Secretary of Defense (Acquisition and Sustainment) | Special Assistant | DD190196 | 09/18/2019
| Office of the Under Secretary of Defense (Comptroller) | Special Assistant | DD190183 | 09/09/2019
| Office of the Under Secretary of Defense (Personnel and Readiness) | Special Assistant (2) | DD200078 DD190158 | 02/06/2020 07/09/2019
| Office of the Under Secretary of Defense (Policy) | Special Assistant (5) | DD200113 DD190166 DD190155 DD190195 DD190198 | 03/25/2020 07/29/2019 09/03/2019 09/13/2019 09/20/2019
| Washington Headquarters Services | Advance Officer | DD200039 | 11/26/2019
|  | Defense Fellow (2) | DD200059 DD200023 | 01/27/2020 11/20/2019
|  | Special Advisor | DD200167 | 05/06/2020
DEPARTMENT OF THE AIR FORCE | Office of Administrative Assistant to the Secretary | Special Assistant | DF190032 | 07/15/2019
| Office of Assistant Secretary of the Air Force for Acquisition | Personal and Confidential Assistant | DF200001 | 10/24/2019
| Office of Assistant Secretary of the Air Force, Installations, Environment, and Energy | Special Assistant | DF180033 | 06/26/2020
| Office of the General Counsel | Special Assistant | DF200006 | 01/14/2020
| Office of the Secretary | Special Assistant | DF200008 | 05/08/2020
DEPARTMENT OF THE ARMY | Office Assistant Secretary of the Army (Civil Works) | Special Assistant (Civil Works) | DW190051 | 09/03/2019
| Office Assistant Secretary of the Army (Financial | Special Assistant | DW200027 | 03/27/2020
| Management and Comptroller) | Special Advisor Assistant Security of the Army (Financial Management and Comptroller) | DW200026 | 04/10/2020
| Office Assistant Secretary of the Army (Installations, Energy and Environment) | Special Assistant (Installations, Energy and Environment) | DW200015 | 12/09/2019
| Office Assistant Secretary of the Army (Manpower and Reserve Affairs) | Special Assistant (Manpower and Reserve Affairs) (2) | DW190046 DW190050 | 07/08/2019 09/19/2019
DEPARTMENT OF THE NAVY | Office of the Assistant Secretary of the Navy (Manpower and Reserve Affairs) | Special Assistant (Manpower and Reserve Affairs) | DN200024 | 05/11/2020
| Department of the Navy | Special Assistant | DN200027 | 05/27/2020
DEPARTMENT OF EDUCATION | Office for Civil Rights | Confidential Assistant (2) | DB200037 DB200044 | 02/06/2020 03/23/2020
|  | Attorney Advisor | DB200043 | 03/25/2020
|  | Attorney Advisor (Senior Counsel) (2) | DB190124 DB190133 | 09/03/2019 10/02/2019
| Office of Communications and Outreach | Confidential Assistant (3) | DB200053 DB200060 DB190126 | 05/04/2020 06/02/2020 09/05/2019
|  | Director of Outreach | DB200052 | 05/04/2020
|  | Director, Center for Faith and Opportunity Initiatives | DB200050 | 04/28/2020
|  | Executive Director, White House Initiative on Educational Excellence for African Americans | DB200051 | 04/28/2020
|  | Special Assistant | DB190104 | 07/12/2019
| Office of Legislation and Congressional Affairs | Confidential Assistant | DB200006 | 12/05/2019
| Office of Planning, Evaluation and Policy Development | Confidential Assistant | DB200013 | 11/26/2019
| Office of Postsecondary Education | Special Assistant | DB200035 | 02/05/2020
|  | Confidential Assistant (3) | DB200064 DB190108 DB190109 | 06/26/2020 07/02/2019 07/03/2019
| Office of Special Education and Rehabilitative Services | Confidential Assistant | DB200055 | 05/07/2020
|  | Special Assistant | DB200054 | 05/11/2020
| Office of the General Counsel | Attorney Advisor (3) | DB200026 DB190118 DB200007 | 01/15/2020 08/22/2019 11/19/2019
|  | Attorney Advisor (Deputy Special Counsel) | DB190132 | 10/02/2019
|  | Attorney Advisor | DB200049 | 04/27/2020
|  | Confidential Assistant (3) | DB200058 DB200059 DB200004 | 06/11/2020 06/11/2020 11/14/2019
| Office of the Secretary | Confidential Assistant (3) | DB200042 DB200056 DB200012 | 03/05/2020 05/15/2020 12/03/2019
|  | Director, White House Liaison | DB200045 | 03/19/2020
|  | Special Assistant (3) | DB200008 DB200009 DB200010 | 12/05/2019 12/05/2019 12/11/2019
| Office of the Under Secretary | Confidential Assistant | DB190111 | 07/03/2019
DEPARTMENT OF ENERGY | Office of Advanced Research Projects Agency—Energy | Senior Advisor | DE200120 | 05/08/2020
| Office of Assistant Secretary for Congressional and Intergovernmental Affairs | Associate Deputy Assistant Secretary for Senate Affairs (2) Deputy Assistant Secretary for Senate Affairs | DE190163 DE190164 DE200006 | 08/05/2019 08/05/2019 10/07/2019
|  | Director of Intergovernmental and External Affairs (2) | DE190168 DE200013 | 08/05/2019 11/07/2019
|  | Legislative Affairs Advisor (2) | DE200075 DE200008 | 02/10/2020 10/28/2019
| Office of Assistant Secretary for Electricity Delivery and Energy Reliability | Special Advisor (4) | DE200109 DE200110 DE200117 DE190199 | 04/23/2020 04/23/2020 04/30/2020 09/17/2019
|  | Special Assistant | DE190179 | 08/29/2019
| Office of Assistant Secretary for Energy Efficiency and Renewable Energy | Chief of Staff | DE200033 | 12/04/2019
|  | Senior Advisor (4) | DE200116 DE200165 DE190178 DE200004 | 04/24/2020 05/19/2020 08/29/2019 10/08/2019
|  | Special Assistant | DE200057 | 01/16/2020
| Office of Assistant Secretary for Environmental Management | Chief of Staff (2) | DE190200 DE190207 | 09/24/2019 10/07/2019
|  | Senior Advisor | DE200086 | 05/19/2020
|  | Special Assistant | DE190188 | 08/29/2019
| Office of Assistant Secretary for Fossil Energy | Senior Advisor Chief of Staff | DE200056 DE200028 | 01/16/2020 12/03/2019
| Office of Assistant Secretary for International Affairs | Deputy Chief of Staff Senior Advisor (2) | DE200045 DE190146 DE190173 | 01/06/2020 07/11/2019 08/21/2019
|  | Special Advisor (3) | DE190147 DE190148 DE200037 | 07/11/2019 07/11/2019 11/22/2019
| Loan Programs Office | Senior Advisor | DE190145 | 08/07/2019
| National Nuclear Security Administration | Program Analyst (2) | DE200166 DE200091 | 01/23/2020 06/16/2020
|  | Senior Advisor | DE200082 | 06/16/2020
| Office of Cybersecurity, Energy Security and Emergency Response | Senior Advisor Senior Advisor and Director of Strategic Initiatives | DE190161 DE200169 | 08/05/2019 10/30/2019
|  | Special Assistant for Integration Services | DE200038 | 12/19/2019
| Office of Economic Impact and Diversity | Chief of Staff Chief, Energy Workforce Division | DE200003 DE200024 | 10/09/2019 12/09/2019
|  | Senior Advisor | DE200027 | 11/20/2019
|  | Special Advisor | DE200026 | 11/20/2019
| Office of General Counsel | Attorney Advisor (2) | DE200044 DE190159 | 12/09/2019 08/01/2019
|  | Counselor | DE200046 | 12/09/2019
|  | Senior Advisor (2) | DE200099 DE190201 | 06/30/2020 09/23/2019
| Office of Management | Advance Lead | DE200021 | 11/15/2019
|  | Deputy Director of Operations for Advance | DE200020 | 11/15/2019
|  | Deputy Director of Operations for Scheduling | DE200017 | 11/14/2019
|  | Deputy Director of Scheduling | DE200016 | 11/04/2019
|  | Director of Operations | DE200009 | 10/28/2019
|  | Operations Assistant | DE200114 | 06/10/2020
|  | Operations Manager | DE200111 | 03/31/2020
|  | Senior Advisor (2) | DE200100 DE200155 | 04/23/2020 06/11/2020
|  | Special Assistant (2) | DE190169 DE190174 | 08/07/2019 08/21/2019
| Office of Policy | Senior Advisor | DE190156 | 08/05/2019
|  | Deputy Director | DE200051 | 12/20/2019
| Office of Public Affairs | Content Creator | DE190172 | 09/09/2019
|  | Deputy Director, Office of Public Affairs (2) | DE190170 DE190177 | 08/13/2019 08/29/2019
|  | Deputy Press Secretary | DE190191 | 09/18/2019
|  | Press Assistant | DE190150 | 07/23/2019
|  | Senior Content Creator | DE190208 | 10/08/2019
|  | Special Assistant | DE190175 | 08/21/2019
|  | Writer-Editor (3) | DE190162 DE200103 DE200119 | 08/05/2019 05/04/2020 05/18/2020
| Office of Scheduling and Advance | Director of Scheduling | DE190203 | 10/07/2019
| Office of Science | Senior Advisor (4) | DE200070 DE190155 DE190192 DE200036 | 03/03/2020 07/30/2019 09/26/2019 12/03/2019
|  | Special Advisor | DE190160 | 08/02/2019
| Office of Strategic Planning and Policy | Deputy Director Policy Coordinator | DE200105 DE200127 | 04/13/2020 06/26/2020
| Office of Technology Transition | Special Advisor | DE190180 | 08/29/2019
| Office of the Deputy Secretary | Scheduler | DE200115 | 04/27/2020
|  | Senior Advisor (2) | DE190183 DE190184 | 08/28/2019 08/28/2019
|  | Special Advisor | DE190139 | 07/11/2019
| Office of the Secretary | Deputy Chief of Staff | DE200047 | 12/09/2019
|  | Director of Operations | DE200089 | 04/23/2020
|  | Senior Advisor for International Affairs | DE190181 | 08/26/2019
|  | Special Assistant (3) | DE190202 DE200002 DE200015 | 09/23/2019 10/07/2019 11/05/2019
| Office of the Secretary of Energy Advisory Board | Senior Advisor | DE200087 | 06/16/2020
| Office of the Under Secretary for Science | Senior Advisor (2) | DE200168 DE200107 | 04/15/2020 04/23/2020
|  | Special Advisor | DE190167 | 08/05/2019
| Office of the Under Secretary of Energy | Scheduler Special Advisor | DE190176 DE190190 | 08/21/2019 08/28/2019
ENVIRONMENTAL PROTECTION AGENCY | Office of Public Affairs | Assistant Deputy Associate Administrator for Policy | EP200048 | 03/05/2020
|  | Senior Advisor for Strategic and Regional Communications | EP190111 | 07/29/2019
|  | Senior Advisor for Strategic Communications and Policy | EP190120 | 08/13/2019
|  | Special Assistant for Digital Media | EP190124 | 08/26/2019
|  | Special Assistant for Video and Media | EP200064 | 04/30/2020
| Office of Public Engagement and Environmental Education | Associate Administrator | EP200041 | 02/25/2020
|  | Special Advisor (2) | EP200060 EP190114 | 03/19/2020 08/06/2019
|  | Special Assistant | EP190109 | 08/06/2019
| Office of the Administrator | Deputy Director for Advance | EP200059 | 03/31/2020
|  | Principal Deputy Chief of Staff | EP200047 | 03/05/2020
|  | Senior Advisor for Strategic Initiatives | EP200073 | 06/18/2020
|  | Senior Deputy White House Liaison (2) | EP200044 EP190110 | 04/28/2020 07/29/2019
|  | Special Advisor for Operations | EP200028 | 01/22/2020
|  | White House Liaison | EP200043 | 04/28/2020
| Office of the Assistant Administrator for Air and Radiation | Executive Assistant for the Office of Air and Radiation | EP200009 | 10/22/2019
|  | Policy and Communications Advisor for the Office of Air and Radiation | EP190133 | 09/03/2019
|  | Senior Policy Advisor for the Office of Air and Radiation | EP190127 | 08/28/2019
|  | Special Assistant for the Office of Air and Radiation | EP200014 | 12/03/2019
| Office of the Assistant Administrator for Chemical Safety and Pollution Prevention | Special Advisor | EP190113 | 08/01/2019
| Office of the Assistant Administrator for Enforcement and Compliance Assurance | Policy Advisor | EP200024 | 12/19/2019
| Office of the Assistant Administrator for International and Tribal Affairs | Senior Advisor Senior Advisor for Policy and Management | EP200057 EP190106 | 03/10/2020 07/12/2019
| Office of the Assistant Administrator for Research and Development | Senior Science Advisor Special Advisor | EP200027 EP190107 | 01/13/2020 07/30/2019
| Office of the Assistant Administrator for Water | Attorney Advisor (General) | EP190121 | 08/19/2019
| Office of the Associate Administrator for Congressional and Intergovernmental Relations | Principal Deputy Associate Administrator for the Office of Congressional and Intergovernmental Relations | EP200037 | 02/10/2020
|  | Assistant Deputy Associate Administrator for Intergovernmental Affairs | EP200045 | 02/27/2020
|  | Director of House Relations | EP200050 | 03/27/2020
|  | Special Advisor for Oversight | EP200033 | 03/31/2020
| Office of the Associate Administrator for Policy | Associate Chief of Staff for the Office of Policy | EP200004 | 10/07/2019
|  | Deputy Associate Administrator for Strategic Planning | EP200019 | 12/13/2019
|  | Policy Assistant (2) | EP200069 EP200001 | 05/13/2020 10/17/2019
|  | Senior Advisor for Policy | EP200065 | 04/28/2020
|  | Senior Advisor for Science and Policy | EP190128 | 10/01/2019
| Office of the Chief Financial Officer | Senior Advisor for Budget and Accountability | EP190123 | 08/29/2019
| Office of the Executive Secretariat | Attorney Advisor | EP200030 | 01/22/2020
|  | Special Advisor (2) | EP200061 EP200005 | 04/20/2020 10/24/2019
| Office of the General Counsel | Attorney Advisor (General) | EP190143 | 10/04/2019
| Region VI—Dallas, Texas | Chief of Staff for Region VI | EP200031 | 04/13/2020
| Region VIII—Denver, Colorado | Chief of Staff for Region VIII | EP190129 | 09/09/2019
| Region IV—San Francisco, California | Senior Advisor for Policy and Congressional Affairs | EP200023 | 01/24/2020
EQUAL EMPLOYMENT OPPORTUNITY COMMISSION | Office of the Chair Office of the General Counsel | Policy Analyst (Special Assistant) Executive Staff Assistant | EE200004 EE190006 | 06/18/2020 09/12/2019
EXPORT-IMPORT BANK | Office of Communications | Speechwriter | EB200011 | 03/24/2020
|  | Vice President of Communications | EB200014 | 06/01/2020
|  | Deputy Press Secretary | EB200005 | 10/31/2019
| Office of Congressional and Intergovernmental Affairs | Special Advisor Senior Advisor | EB190013 EB190004 | 07/17/2019 07/19/2019
|  | Senior Vice President | EB190014 | 07/31/2019
| Office of External Engagement | Deputy for External Engagement | EB190017 | 09/04/2019
|  | Principal Deputy | EB190018 | 09/12/2019
| Office of the Chairman | Assistant | EB200002 | 10/10/2019
|  | Special Advisor and Deputy Scheduler (3) | EB200009 EB200004 EB200006 | 01/30/2020 10/25/2019 10/29/2019
| Office of the Chief Banking Officer | Senior Advisor | EB200012 | 03/30/2020
| Office of the Chief of Staff | Senior Advisor, National Security | EB190012 | 07/16/2019
| Office of the Chief of Staff | Deputy Chief of Staff | EB200007 | 11/04/2019
FEDERAL HOUSING FINANCE AGENCY | Office of the Director | Assistant Chief of Staff Deputy Chief of Staff | HA200001 HA200002 | 11/05/2019 11/14/2019
|  | Senior Congressional Affairs Advisor | HA200003 | 12/02/2019
FEDERAL LABOR RELATIONS AUTHORITY | Office of the Chairman | Confidential Assistant | FA200002 | 01/08/2020
FEDERAL MARITIME COMMISSION | Office of the Members | Counsel | MC200001 | 04/24/2020
GENERAL SERVICES ADMINISTRATION | Northwest/Arctic Region | Regional Administrator | GS200029 | 02/25/2020
| Office of Congressional and Intergovernmental Affairs | Congressional Policy Analyst Policy Advisor | GS200025 GS200026 | 01/30/2020 01/30/2020
|  | Deputy Associate Administrator | GS200002 | 12/17/2019
| Office of Strategic Communication | Speechwriter | GS200024 | 01/23/2020
|  | Senior Communications Advisor | GS190039 | 09/13/2019
| Office of the Administrator | Confidential Assistant | GS200037 | 06/30/2020
|  | Deputy White House Liaison | GS200035 | 03/24/2020
|  | Special Assistant (2) | GS200031 GS190037 | 02/28/2020 08/07/2019
|  | White House Liaison | GS200027 | 03/03/2020
|  | White House Liaison and Senior Advisor | GS190038 | 08/19/2019
| Public Buildings Service | Executive Assistant | GS190035 | 07/29/2019
| Rocky Mountain Region | Regional Administrator | GS200028 | 02/25/2020
DEPARTMENT OF HEALTH AND HUMAN SERVICES | Office of Administration for Children and Families | Communications Advisor Policy Advisor | DH190245 DH190266 | 09/09/2019 10/09/2019
|  | Advisor | DH190120 | 10/31/2019
|  | Senior Advisor for Communications | DH200035 | 12/03/2019
| Agency for Healthcare Research and Quality | Advisor | DH200071 | 02/07/2020
| Centers for Disease Control and Prevention | Senior Advisor Senior Advisor for Communications | DH200118 DH200119 | 06/02/2020 06/02/2020
| Centers for Medicare and Medicaid Services | Advisor for Medicare Director of Strategic Communications | DH190216 DH190171 | 08/06/2019 07/11/2019
|  | Senior Advisor (2) | DH200011 DH200003 | 01/10/2020 11/07/2019
| Office for Civil Rights | Senior Advisor for Conscience and Religious Freedom | DH200107 | 05/05/2020
|  | Special Advisor for Civil Rights | DH190238 | 08/20/2019
| Office of Communications | Senior Speechwriter | DH200083 | 06/26/2020
|  | Speechwriter | DH190232 | 08/13/2019
| Office of Global Affairs | Senior Advisor | DH200015 | 11/05/2019
|  | Special Representative | DH200004 | 11/07/2019
|  | Chief of Staff and Senior Advisor | DH200007 | 11/07/2019
| Office of Intergovernmental and External Affairs | Director of External Affairs External Affairs Specialist (2) | DH200041 DH190252 DH190240 | 12/05/2019 09/04/2019 09/09/2019
|  | Regional Director, Atlanta, Georgia, Region IV | DH200081 | 04/23/2020
|  | Regional Director, Denver, Colorado, Region VIII | DH200049 | 01/10/2020
|  | Special Assistant (2) | DH200102 DH190244 | 04/08/2020 08/29/2019
| Office of Refugee Resettlement/Office of the Director | Chief of Staff Senior Advisor | DH200099 DH200124 | 03/23/2020 06/18/2020
|  | Policy Advisor | DH190256 | 09/17/2019
| Office of the Assistant Secretary for Financial Resources | Senior Advisor Associate Deputy Assistant Secretary | DH200130 DH200038 | 06/19/2020 12/06/2019
|  | Chief of Staff, Office of the Assistant Secretary for Financial Resources | DH200044 | 12/13/2019
| Office of the Assistant Secretary for Health | Advisor Chief of Staff | DH190255 DH190235 | 10/02/2019 08/27/2019
|  | Director of External Affairs | DH190218 | 08/06/2019
|  | Executive Director, President's Council on Sports, Fitness, and Nutrition | DH200079 | 02/25/2020
| Office of the Assistant Secretary for Legislation | Chief of Staff Director of Congressional Liaison | DH190227 DH200018 | 08/21/2019 11/13/2019
|  | Policy Advisor—Oversight and Investigations | DH200045 | 12/11/2019
|  | Senior Advisor | DH200008 | 10/31/2019
|  | Special Assistant | DH190228 | 08/21/2019
| Office of the Assistant Secretary for Preparedness and Response | Senior Advisor Advisor | DH200051 DH200101 | 01/27/2020 04/03/2020
| Office of the Assistant Secretary for Public Affairs | Advisor—Strategic Communications | DH200010 | 11/05/2019
|  | Content Strategy and Marketing Associate | DH190168 | 07/02/2019
|  | Deputy Assistant Secretary, National Spokesperson | DH200042 | 12/04/2019
|  | Deputy Press Secretary | DH190226 | 07/29/2019
|  | Deputy Speechwriter | DH200009 | 11/06/2019
|  | Director of Communication Strategy and Campaigns | DH200019 | 02/05/2020
|  | Director, Speechwriting and Editorial Services | DH190246 | 08/27/2019
|  | Press Secretary | DH190223 | 08/13/2019
|  | Senior Advisor | DH200109 | 05/04/2020
|  | Special Assistant (2) | DH200120 DH200122 | 05/28/2020 06/11/2020
| Office of the General Counsel | Advisor and Legal Counsel | DH200047 | 01/07/2020
|  | Associate Deputy General Counsel | DH190229 | 07/29/2019
|  | Law Clerk | DH190201 | 07/17/2019
| Office of the Secretary | Advisor | DH200111 | 05/13/2020
|  | Advisor for Value-Based Transformation | DH200059 | 01/16/2020
|  | Briefing Book Coordinator | DH190233 | 08/13/2019
|  | Deputy Scheduler (2) | DH200054 DH200121 | 01/03/2020 06/09/2020
| Deputy White House Liaison (2) | DH200016 DH200046 | 11/05/2019 12/12/2019
|  | Special Assistant (6) | DH200112 DH200137 DH190170 DH190225 DH200050 DH200040 | 05/13/2020 06/26/2020 07/11/2019 07/29/2019 12/17/2019 12/17/2019
DEPARTMENT OF HOMELAND SECURITY | Cybersecurity and Infrastructure Security Agency (CISA) | Legislative Advisor Policy Advisor | DM190246 DM200011 | 07/11/2019 10/29/2019
|  | Special Assistant (2) | DM200300 DM200022 | 06/26/2020 10/25/2019
| Federal Emergency Management Agency | Advisor Deputy Press Secretary (2) | DM190316 DM200116 DM190315 | 09/27/2019 01/28/2020 10/29/2019
|  | Senior Advisor (2) | DM200262 DM200210 | 05/29/2020 05/30/2020
| Office of Assistant Secretary for Legislative Affairs | Confidential Assistant Legislative Manager | DM190083 DM200218 | 02/14/2020 04/16/2020
|  | Chief of Staff | DM190293 | 09/06/2019
| Office of Countering Weapons of Mass Destruction | Senior Advisor (3) | DM200292 DM200117 DM200019 | 06/16/2020 01/27/2020 10/25/2019
|  | Special Advisor | DM200194 | 04/15/2020
| Office of Partnership and Engagement | Partnership and Engagement Specialist | DM200036 | 11/26/2019
|  | Special Assistant | DM200018 | 12/19/2019
| Office of Assistant Secretary for Policy | Confidential Assistant (3) | DM200281 DM200002 DM200054 | 06/16/2020 10/17/2019 12/03/2019
|  | Policy Advisor | DM200248 | 05/01/2020
|  | Senior Advisor | DM200138 | 03/25/2020
|  | Special Assistant (2) | DM200164 DM200289 | 03/27/2020 06/16/2020
| Office of Assistant Secretary for Public Affairs | Assistant Press Secretary Director of Strategic Communications | DM190319 DM200038 | 10/03/2019 01/02/2020
|  | Director of Strategic Outreach and Engagement | DM190267 | 08/13/2019
|  | Press Secretary | DM200083 | 01/09/2020
|  | Special Assistant | DM200255 | 06/01/2020
|  | Speechwriter (2) | DM200102 DM200257 | 01/09/2020 06/02/2020
| Office of the Chief Information Officer | Special Assistant | DM200301 | 06/26/2020
| Office of the Chief of Staff | Advance Representative (2) | DM190301 DM200024 | 10/01/2019 10/25/2019
|  | Briefing Book Coordinator | DM200238 | 04/28/2020
|  | Deputy Director of Advance | DM190308 | 09/19/2019
|  | Deputy White House Liaison (2) | DM200142 DM200220 | 02/05/2020 04/22/2020
|  | Senior Advisor (3) | DM200170 DM200288 DM190279 | 04/11/2020 06/11/2020 08/27/2019
|  | Special Assistant | DM200028 | 10/29/2019
| Office of the General Counsel | Oversight Counsel | DM200097 | 01/09/2020
|  | Senior Counsel and Senior Advisor | DM200203 | 04/29/2020
|  | Deputy General Counsel | DM200058 | 12/11/2019
| Office of the Secretary | White House Liaison | DM200188 | 03/10/2020
| Office of the Transportation Security Administration | Senior Counselor | DM190255 | 07/16/2019
| Office of United States Citizenship and Immigration Services | Advisor (2) | DM190302 DM200064 | 09/20/2019 12/13/2019
|  | Deputy Chief of Staff | DM190276 | 08/21/2019
|  | Senior Advisor (5) | DM200023 DM200081 DM200091 DM200184 DM190275 | 01/02/2020 01/02/2020 01/08/2020 04/11/2020 08/21/2019
|  | Senior Policy Advisor | DM200061 | 12/13/2019
|  | Special Assistant (2) | DM190235 DM190314 | 07/03/2019 10/03/2019
| Office of United States Customs and Border Protection | Assistant Press Secretary Chief of Staff, Office of Policy and Planning | DM200098 DM200285 | 01/09/2020 06/23/2020
|  | Deputy Press Secretary | DM200282 | 06/24/2020
|  | Executive Director for Policy and Planning (2) | DM190303 DM190310 | 09/19/2019 09/24/2019
|  | Policy Analyst | DM190280 | 08/27/2019
|  | Policy Management and Program Analyst | DM200286 | 06/11/2020
|  | Special Assistant | DM200016 | 10/29/2019
| Office of United States Immigration and Customs Enforcement | Senior Advisor | DM200246 | 05/05/2020
|  | Special Advisor | DM200021 | 10/29/2019
DEPARTMENT OF HOUSING AND URBAN DEVELOPMENT | Office of Community Planning and Development | Senior Advisor (3) | DU200039 DU200045 DU200054 | 01/03/2020 01/14/2020 03/05/2020
|  | Senior Policy Advisor | DU200037 | 12/17/2019
|  | Special Assistant (2) | DU200094 DU190114 | 05/05/2020 09/04/2019
| Office of Congressional and Intergovernmental Relations | Senior Advisor Congressional Liaison | DU190091 DU190109 | 07/09/2019 08/13/2019
|  | Congressional Relations | DU200016 | 12/03/2019
| Office of Faith-Based and Community Initiatives | Special Advisor | DU200038 | 01/24/2020
| Office of Field Policy and Management | Advisor Special Assistant | DU200087 DU190103 | 03/23/2020 07/29/2019
| Office of Housing | Senior Advisor | DU200009 | 12/11/2019
| Office of Policy Development and Research | Special Assistant | DU200015 | 11/22/2019
| Office of Public Affairs | Assistant Press Secretary | DU190122 | 09/06/2019
|  | Deputy Assistant Secretary for Strategic Communication | DU190111 | 08/21/2019
|  | Digital Strategist | DU200080 | 03/17/2020
|  | Director of Strategic Communications | DU190128 | 10/01/2019
|  | Press Secretary | DU200034 | 12/09/2019
|  | Special Assistant | DU200106 | 06/22/2020
| Office of the Administration | Advance Coordinator | DU190090 | 07/09/2019
|  | Senior Advisor (2) | DU200079 DU190108 | 06/15/2020 08/08/2019
|  | Special Assistant | DU190100 | 07/31/2019
| Office of the Chief Financial Officer | Senior Advisor | DU200097 | 05/12/2020
|  | Program Analyst | DU190099 | 07/24/2019
| Office of the Chief Information Officer | Management Analyst | DU190101 | 07/24/2019
| Office of the General Counsel | Senior Counsel | DU200044 | 01/27/2020
| Office of the Secretary | Special Assistant | DU200115 | 06/22/2020
DEPARTMENT OF THE INTERIOR | Office of the Assistant Secretary—Land and Minerals Management | Counselor—Land and Minerals Management | DI200005 | 10/29/2019
| Bureau of Reclamation | Advisor (2) | DI190076 DI190093 | 07/29/2019 09/13/2019
| Office of Congressional and Legislative Affairs | Advisor | DI190080 | 07/12/2019
| Secretary's Immediate Office | Advance Representative | DI200006 | 12/03/2019
|  | Advisor | DI200016 | 12/03/2019
|  | Deputy Director, Office of Advance | DI200012 | 11/22/2019
|  | Deputy Director, Office of Intergovernmental and External Affairs | DI190092 | 09/13/2019
|  | Deputy Press Secretary | DI200018 | 12/11/2019
|  | Press Secretary | DI200068 | 04/30/2020
|  | Special Assistant (2) | DI190081 DI190082 | 07/12/2019 07/23/2019
DEPARTMENT OF JUSTICE | Antitrust Division | Counsel (2) | DJ190242 DJ190243 | 11/26/2019 12/17/2019
| Civil Division | Counsel (3) | DJ200049 DJ200066 DJ190214 | 03/06/2020 03/06/2020 10/09/2019
| Civil Rights Division | Counsel | DJ190228 | 10/22/2019
| Community Oriented Policing Services | Senior Advisor | DJ200122 | 06/02/2020
| Criminal Division | Chief of Staff and Counselor | DJ200118 | 06/15/2020
| Environment and Natural Resources Division | Senior Counsel | DJ190176 | 09/12/2019
|  | Counsel (2) | DJ190182 DJ200019 | 09/20/2019 12/21/2019
| Executive Office for United States Attorneys | Program Support Specialist Secretary | DJ200094 DJ190164 | 04/22/2020 07/24/2019
| Office of Justice Programs | Chief of Staff | DJ200081 | 03/03/2020
|  | Counsel | DJ190157 | 07/30/2019
|  | Legislative Assistant | DJ190239 | 12/04/2019
|  | Outreach Coordinator | DJ200069 | 04/20/2020
|  | Senior Advisor (4) | DJ190201 DJ200075 DJ190203 DJ200026 | 03/17/2020 03/23/2020 09/23/2019 12/12/2019
|  | Special Advisor for Policy and Communications | DJ200065 | 01/30/2020
|  | Staff Assistant | DJ190230 | 09/12/2019
| Office of Legal Policy | Counsel | DJ200070 | 02/05/2020
|  | Senior Counsel (3) | DJ190245 DJ200006 DJ200033 | 10/17/2019 11/15/2019 12/05/2019
| Office of Public Affairs | Press Assistant (2) | DJ200045 DJ200089 | 03/06/2020 04/22/2020
|  | Advance and National Coordinator | DJ190184 | 07/29/2019
|  | Senior Advisor for Strategic Communications and Chief Speechwriter | DJ190185 | 08/08/2019
|  | Senior Advisor | DJ200001 | 12/03/2019
| Office of the Attorney General | Director of Scheduling | DJ190238 | 10/24/2019
|  | Special Assistant (2) | DJ200086 DJ190237 | 03/06/2020 09/24/2019
|  | White House Liaison Officer and Special Assistant | DJ200041 | 01/06/2020
| Office of the Deputy Attorney General | Senior Counsel Counsel | DJ190219 DJ190244 | 09/09/2019 10/24/2019
| Office on Violence Against Women | Advisor | DJ200017 | 01/23/2020
|  | Special Advisor | DJ200106 | 05/07/2020
DEPARTMENT OF LABOR | Employee Benefits Security Administration | Chief of Staff (2) | DL190156 DL190183 | 08/16/2019 09/26/2019
|  | Policy Advisor (2) | DL190148 DL190176 | 09/13/2019 09/18/2019
|  | Senior Policy Advisor (3) | DL190184 DL190124 DL190146 | 10/11/2019 07/03/2019 08/06/2019
|  | Special Assistant (2) | DL200101 DL200135 | 04/06/2020 06/22/2020
| Mine Safety and Health Administration | Senior Policy Advisor | DL190145 | 08/19/2019
| Occupational Safety and Health Administration | Special Assistant | DL190179 | 09/24/2019
| Office of Congressional and Intergovernmental Affairs | Case Officer | DL200057 | 02/10/2020
|  | Regional Representative (8) | DL200043 DL200083 DL200074 DL190178 DL190157 DL200010 DL200011 DL200019 | 01/14/2020 03/05/2020 03/15/2020 09/24/2019 10/01/2019 10/11/2019 10/11/2019 11/15/2019
|  | Senior Legislative Officer (5) | DL190103 DL190106 DL190107 DL190143 DL200028 | 07/01/2019 07/02/2019 07/02/2019 08/06/2019 11/22/2019
| Office of Federal Contract Compliance Programs | Senior Policy Advisor (2) | DL190149 DL200013 | 08/06/2019 10/11/2019
| Office of Labor-Management Standards | Policy Advisor | DL200022 | 11/19/2019
| Office of Public Affairs | Communications Advisor | DL190115 | 07/02/2019
|  | Deputy Press Secretary | DL190108 | 07/09/2019
|  | Press Secretary | DL190147 | 08/06/2019
|  | Senior Advisor for Digital Strategy and Creative Services | DL190109 | 07/02/2019
|  | Senior Advisor for Policy and Media | DL200103 | 06/19/2020
|  | Special Assistant | DL190168 | 09/12/2019
| Office of Public Liaison | Deputy Director | DL200093 | 03/31/2020
|  | Senior Advisor | DL200124 | 05/28/2020
|  | Special Assistant | DL200119 | 06/04/2020
| Office of the Assistant Secretary for Administration and Management | Special Assistant | DL190068 | 08/15/2019
| Office of the Assistant Secretary for Policy | Deputy Chief Economist Senior Counsel and Policy Advisor | DL190162 DL200040 | 08/22/2019 01/09/2020
|  | Senior Counselor for Compliance Initiatives | DL200072 | 02/12/2020
|  | Senior Policy Advisor | DL190125 | 07/03/2019
|  | Senior Policy Advisor for Workforce Health Initiatives | DL190131 | 07/17/2019
|  | Special Assistant (2) | DL200111 DL200152 | 05/05/2020 06/30/2020
| Office of the Chief Financial Officer | Chief of Staff | DL200099 | 05/15/2020
| Office of the Deputy Secretary | Counselor | DL190177 | 09/18/2019
| Office of the Secretary | Advance Lead | DL200141 | 06/03/2020
|  | Advance Representative (2) | DL200052 DL190105 | 01/24/2020 07/02/2019
|  | Deputy Chief of Staff | DL190137 | 07/24/2019
|  | Deputy Director of Scheduling | DL200029 | 11/19/2019
|  | Deputy Director, Office of Faith-Based and Community Initiatives | DL190167 | 09/12/2019
|  | Deputy White House Liaison | DL200131 | 05/15/2020
|  | Director of Scheduling and Operations | DL200128 | 06/04/2020
|  | Director, Office of Faith-Based and Community Initiatives | DL190166 | 08/27/2019
|  | Director, Office of the White House Liaison | DL200122 | 05/01/2020
|  | Executive Assistant | DL190191 | 09/27/2019
|  | Executive Secretary | DL200014 | 10/24/2019
|  | Principal Travel Aide | DL200089 | 03/13/2020
|  | Senior Policy Advisor | DL190144 | 08/06/2019
|  | Special Assistant (7) | DL200045 DL200042 DL200055 DL200075 DL200108 DL200110 DL200018 | 01/14/2020 01/30/2020 02/06/2020 02/10/2020 04/20/2020 05/27/2020 10/31/2019
|  | Speechwriter | DL200027 | 11/13/2019
| Office of the Solicitor | Senior Counsel (3) | DL190141 DL190160 DL190172 | 08/01/2019 08/22/2019 09/04/2019
| Office of Workers Compensation Programs | Senior Policy Advisor | DL190182 | 10/11/2019
| Office of Veterans Employment and Training Service | Special Assistant Chief of Staff and Policy Advisor | DL200080 DL190111 | 03/23/2020 07/09/2019
|  | Senior Policy Advisor | DL190142 | 08/06/2019
|  | Policy Advisor | DL200090 | 05/21/2020
| Office of Wage and Hour Division | Senior Policy Advisor (3) | DL200051 DL190123 DL190126 | 01/23/2020 07/03/2019 07/17/2019
| Office of the Women's Bureau | Senior Advisor | DL200097 | 04/06/2020
NATIONAL AERONAUTICS AND SPACE ADMINISTRATION | Office of the Administrator Office of Legislative and Intergovernmental Affairs | Executive Assistant Regional Affairs Specialist | NN200028 NN200012 | 02/06/2020 12/11/2019
NATIONAL CREDIT UNION ADMINISTRATION | National Credit Union Administration | Staff Assistant Confidential Assistant | CU190005 CU200001 | 08/12/2019 08/12/2019
| Office of the Board | Staff Assistant | CU190003 | 07/25/2019
|  | Senior Policy Advisor | CU190002 | 08/12/2019
|  | Director, Office of External Affairs and Communications/Deputy Chief of Staff | CU200002 | 10/15/2019
| Office of Public and Congressional Affairs | Deputy Director, Office of External Affairs and Communications | CU190007 | 08/12/2019
|  | Senior Advisor for Communications and Engagement | CU200003 | 10/24/2019
NATIONAL ENDOWMENT FOR THE ARTS | National Endowment for the Arts | Special Assistant for Events & Development | NA190013 | 09/13/2019
NATIONAL ENDOWMENT FOR THE HUMANITIES | National Endowment for the Humanities | Program Analyst Supervisory Public Affairs Specialist | NH200001 NH200003 | 04/10/2020 06/09/2020
NATIONAL LABOR RELATIONS BOARD | Office of the Board Members | Director Congressional and Public Affairs Officer | NL190011 | 07/01/2019
|  | Congressional Liaison Specialist | NL190014 | 09/25/2019
NATIONAL TRANSPORTATION SAFETY BOARD | National Transportation Safety Board | Confidential Assistant | TB200004 | 03/23/2020
| Office of the Board Members | Special Assistant | TB200006 | 05/05/2020
|  | Confidential Assistant (3) | TB200007 TB200001 TB200003 | 06/11/2020 10/18/2019 12/09/2019
OCCUPATIONAL SAFETY AND HEALTH REVIEW COMMISSION | Occupational Safety and Health Review Commission | Confidential Assistant | SH200001 | 04/07/2020
| Office of the Commissioners | Counsel | SH200002 | 05/21/2020
|  | Confidential Assistant | SH190001 | 07/02/2019
OFFICE OF MANAGEMENT AND BUDGET | Office of Communications | Deputy for Communication Deputy Press Secretary | BO200027 BO200028 | 05/18/2020 05/30/2020
| Office of Education, Income Maintenance and Labor Programs | Special Assistant Confidential Assistant | BO200024 BO190035 | 03/30/2020 07/03/2019
| Office of General Counsel | Special Counsel | BO190039 | 08/06/2019
|  | Confidential Assistant | BO190048 | 09/18/2019
| Office of General Government Programs | Confidential Assistant | BO200026 | 05/01/2020
| Office of the Health Division | Confidential Assistant | BO200003 | 10/17/2019
| Office of Legislative Affairs | Deputy for Legislative Affairs (House) | BO190036 | 08/05/2019
| National Security Programs | Special Assistant | BO190044 | 08/29/2019
| Natural Resource Programs | Confidential Assistant | BO200004 | 10/25/2019
| Office of E-Government and Information Technology | Special Assistant | BO200013 | 12/05/2019
| Office of Information and Regulatory Affairs | Senior Advisor Counselor | BO200019 BO190037 | 01/27/2020 08/20/2019
|  | Confidential Assistant | BO200016 | 12/13/2019
| Office of the Director | Confidential Assistant (3) | BO200020 BO200025 BO190040 | 01/30/2020 03/31/2020 07/25/2019
|  | Senior Advisor (2) | BO200017 BO190045 | 12/13/2019 08/29/2019
|  | Special Assistant | BO190038 | 08/02/2019
OFFICE OF NATIONAL DRUG CONTROL POLICY | Office of Legislative Affairs | Public Affairs Specialist (2) | QQ200006 QQ190015 | 05/07/2020 10/07/2019
|  | Deputy Assistant Director, Office of Legislative Affairs | QQ200001 | 10/07/2019
| Office of Public Affairs | Public Affairs Specialist | QQ200002 | 02/11/2020
| Office of the Director | Special Advisor | QQ200003 | 02/28/2020
|  | Confidential Assistant | QQ200007 | 06/11/2020
OFFICE OF PERSONNEL MANAGEMENT | Office of Congressional, Legislative, and Intergovernmental Affairs | Congressional Relations Officer Deputy Director, Congressional, Legislative and Intergovernmental Affairs | PM190054 PM200051 | 09/24/2019 05/08/2020
|  | Legislative Analyst (3) | PM200012 PM200053 PM200063 | 01/10/2020 06/15/2020 06/29/2020
|  | Senior Congressional Relations Officer | PM200052 | 06/15/2020
| Employee Services | Executive Assistant | PM200058 | 05/18/2020
|  | Senior Advisor (4) | PM200049 PM200061 PM200062 PM200064 | 04/21/2020 06/11/2020 06/29/2020 06/29/2020
| Office of Communications | Confidential Assistant | PM190047 | 07/08/2019
|  | Public Affairs Specialist | PM190053 | 08/28/2019
|  | Senior Press Officer | PM200001 | 12/10/2019
| Office of the Director | Clerk | PM200010 | 12/20/2019
|  | Confidential Clerk | PM200011 | 12/20/2019
|  | Director of Advance and Speechwriter | PM200005 | 10/25/2019
|  | Executive Secretariat and Resources Management Officer | PM200043 | 03/31/2020
| Senior Advisor (3) | PM200007 PM200023 PM200038 | 11/19/2019 12/19/2019 03/27/2020
|  | Special Assistant | PM200050 | 05/04/2020
| President's Commission on White House Fellowships | Confidential Assistant Associate Director | PM200014 PM200056 | 01/31/2020 05/30/2020
|  | Deputy Director | PM200003 | 11/04/2019
OFFICE OF SCIENCE AND TECHNOLOGY POLICY | Office of Science and Technology Policy | Confidential Assistant Press Secretary | TS200004 TS200002 | 05/20/2020 12/19/2019
OFFICE OF SPECIAL COUNSEL | Headquarters, Office of Special Counsel | Deputy Special Counsel for Public Policy | SC200001 | 04/06/2020
|  | Deputy Special Counsel for Congressional Affairs | SC200002 | 04/06/2020
OFFICE OF THE UNITED STATES TRADE REPRESENTATIVE | Office of the Ambassador | Executive Secretary | TN200003 | 03/18/2020
OFFICIAL RESIDENCE OF THE VICE PRESIDENT | Official Residence of the Vice President | Deputy Social Secretary | RV200001 | 03/10/2020
OVERSEAS PRIVATE INVESTMENT CORPORATION | Overseas Private Investment Corporation | Confidential Assistant Special Assistant | PQ200008 PQ200014 | 02/04/2020 04/27/2020
SECURITIES AND EXCHANGE COMMISSION | Office of the Chairman | Attorney Advisor Confidential Assistant (2) | SE190009 SE190010 SE200002 | 07/22/2019 08/06/2019 12/05/2019
SMALL BUSINESS ADMINISTRATION | Office of Administration Office of Capital Access | Special Assistant Special Assistant | SB190028 SB200011 | 07/22/2019 03/30/2020
|  | Senior Advisor | SB200026 | 06/11/2020
| Office of Communications and Public Liaison | Digital Media Manager Speechwriter | SB200009 SB200008 | 01/23/2020 02/14/2020
|  | Senior Advisor | SB190029 | 08/08/2019
| Office of Congressional and Legislative Affairs | Deputy Assistant Administrator | SB200020 | 03/27/2020
| Office of Entrepreneurial Development | Director Faith-Based and Community Initiatives | SB200022 | 04/30/2020
|  | Senior Advisor | SB200024 | 05/28/2020
| Office of Investment and Innovation | Senior Advisor Special Assistant | SB200006 SB190032 | 01/22/2020 10/04/2019
| Office of the Administrator | Deputy White House Liaison | SB200023 | 05/08/2020
|  | Director of Scheduling | SB200002 | 11/22/2019
|  | Senior Advisor | SB200003 | 12/19/2019
|  | Special Assistant | SB200016 | 05/19/2020
|  | White House Liaison | SB200019 | 03/30/2020
| Office of the General Counsel | Senior Counsel | SB200029 | 06/08/2020
SOCIAL SECURITY ADMINISTRATION | Office of the Commissioner | Special Assistant Special Advisor | SZ200013 SZ200018 | 01/31/2020 04/22/2020
| Office of Information Security | Program Analyst | SZ190003 | 08/07/2019
DEPARTMENT OF STATE | Bureau of Administration | Special Assistant | DS200013 | 10/31/2019
| Bureau of African Affairs | Special Envoy for the Sahel Region of Africa | DS200044 | 02/25/2020
| Bureau of Arms Control, Verification, and Compliance | Senior Advisor | DS200014 | 10/31/2019
| Bureau of Democracy, Human Rights and Labor | Special Assistant | DS190112 | 07/03/2019
| Bureau of East Asian and Pacific Affairs | Deputy Assistant Secretary | DS200067 | 06/18/2020
| Bureau of Economic and Business Affairs | Special Advisor | DS200001 | 10/08/2019
| Bureau of Education and Cultural Affairs | Special Advisor | DS200047 | 02/14/2020
| Bureau of European and Eurasian Affairs | Strategic Advisor | DS190130 | 08/26/2019
| Bureau of Global Public Affairs | Special Advisor | DS200032 | 01/27/2020
|  | Deputy Spokesperson | DS190141 | 09/10/2019
| Bureau of International Organizational Affairs | Special Assistant | DS190120 | 07/16/2019
| Bureau of Legislative Affairs | Special Advisor (2) | DS200036 DS190131 | 01/22/2020 08/26/2019
|  | Legislative Management Officer | DS190129 | 10/09/2019
| Bureau of Near Eastern Affairs | Deputy Assistant Secretary | DS200045 | 03/03/2020
| Bureau of Overseas Buildings Operations | Senior Strategic Advisor Senior Advisor | DS200033 DS200080 | 01/16/2020 06/23/2020
| Bureau of Political and Military Affairs | Deputy Assistant Secretary Senior Advisor | DS190145 DS190146 | 09/20/2019 09/20/2019
| Bureau of Western Hemisphere Affairs | Special Assistant | DS200015 | 11/12/2019
| Office of Global Women's Issues | Special Advisor | DS200008 | 11/14/2019
| Office of Policy Planning | Writer-Editor (Speechwriter) | DS200007 | 10/31/2019
|  | Special Assistant | DS190126 | 11/22/2019
| Office of the Chief of Protocol | Protocol Officer (Visits) | DS200066 | 06/10/2020
|  | Senior Protocol Officer | DS190113 | 07/03/2019
|  | Protocol Officer (Visits) | DS190119 | 07/23/2019
|  | Protocol Officer (Ceremonials) | DS200005 | 10/10/2019
|  | Protocol Officer (Gifts) | DS200025 | 12/19/2019
| Office of the Counselor | Special Assistant | DS200053 | 02/26/2020
|  | Staff Assistant | DS200070 | 06/10/2020
| Office of the Deputy Secretary | Special Advisor | DS190125 | 07/30/2019
| Office of the Director of US Foreign Assistance | Special Advisor | DS190144 | 09/24/2019
| Office of the Legal Adviser | Attorney Adviser | DS200023 | 12/19/2019
| Office of the Secretary | Senior Advisor (6) | DS200048 DS200002 DS200003 DS200016 DS200018 DS200019 | 02/14/2020 10/08/2019 10/08/2019 11/26/2019 12/04/2019 12/09/2019
|  | Special Advisor (3) | DS200040 DS190042 DS200011 | 02/28/2020 07/08/2019 10/31/2019
|  | Special Assistant (2) | DS200077 DS190127 | 06/18/2020 07/31/2019
|  | Staff Assistant (3) | DS200050 DS200012 DS200017 | 02/25/2020 11/13/2019 12/03/2019
|  | Writer-Editor (Speechwriter) | DS200049 | 04/06/2020
| Office of the Under Secretary for Civilian Security, Democracy, and Human Rights | Senior Advisor Special Assistant (2) | DS200063 DS200042 DS190142 | 05/06/2020 04/06/2020 09/10/2019
| Office of the Under Secretary for Economic Growth, Energy, and the Environment | Deputy Chief Economist Senior Economist | DS190140 DS190143 | 09/04/2019 09/20/2019
| Office of the Under Secretary for Management | Deputy White House Liaison Senior Advisor | DS190151 DS190123 | 09/25/2019 07/24/2019
|  | Special Assistant | DS200009 | 10/29/2019
DEPARTMENT OF TRANSPORTATION | Office of the Administrator | Director of Governmental Affairs (3) | DT200096 DT200082 DT200027 | 03/24/2020 04/06/2020 11/07/2019
|  | Director of Governmental and Legislative Affairs | DT200075 | 02/11/2020
|  | Director of Public Affairs | DT200023 | 11/04/2019
|  | Governmental and Legislative Affairs Officer | DT200076 | 02/11/2020
|  | Senior Governmental Affairs Officer | DT200019 | 10/28/2019
|  | Senior Policy Advisor | DT200080 | 02/27/2020
|  | Special Assistant | DT190126 | 10/10/2019
| Office of the Assistant Secretary for Administration | Special Assistant | DT200029 | 11/12/2019
| Office of the Assistant Secretary for Governmental Affairs | Senior Governmental Affairs Officer (3) | DT200094 DT200107 DT200018 | 03/16/2020 05/05/2020 11/12/2019
|  | Special Assistant (2) | DT200116 DT200025 | 05/27/2020 11/13/2019
| Office of the Assistant Secretary for Research and Technology | Special Assistant | DT190096 | 07/17/2019
| Office of the Assistant Secretary for Transportation Policy | Public Liaison and Engagement Advisor | DT200072 | 03/27/2020
|  | Senior Advisor for Public Outreach and Communications | DT200031 | 11/13/2019
|  | Senior Director of Public Liaison | DT190120 | 08/28/2019
|  | Special Assistant (3) | DT200065 DT200001 DT200091 | 01/14/2020 11/08/2019 03/16/2020
| Office of the Associate Administrator for Highway Policy and Governmental Affairs | Associate Administrator for Policy and Governmental Affairs | DT200003 | 10/16/2019
| Chief Information Officer | Associate Director for Strategic IT Initiatives | DT200110 | 05/08/2020
|  | Associate Director for Technology and Information Services | DT200034 | 12/11/2019
| Office of the Executive Secretariat | Deputy Director | DT190119 | 08/28/2019
|  | Special Assistant (3) | DT200070 DT200117 DT190125 | 01/30/2020 06/10/2020 10/07/2019
| Immediate Office of the Administrator | Governmental Affairs Officer Special Assistant for Strategic Communications | DT200088 DT190112 | 03/27/2020 07/31/2019
|  | Director of Governmental, International and Public Affairs | DT200005 | 10/29/2019
| Office of Government and Industry | Governmental Affairs and External Outreach Advisor | DT200078 | 02/12/2020
| Office of the Deputy Secretary | Special Assistant | DT200002 | 11/14/2019
|  | Executive Assistant | DT200026 | 11/19/2019
| Office of Pipeline and Hazardous Materials Safety Administration | Senior Policy Advisor | DT200008 | 10/16/2019
| Office of Public Affairs | Deputy Director for Public Affairs | DT200098 | 04/21/2020
|  | Digital Communications Manager | DT200093 | 03/16/2020
|  | Press Secretary | DT200030 | 11/15/2019
|  | Senior Deputy Press Secretary | DT200114 | 06/05/2020
|  | Senior Media Affairs Coordinator | DT200115 | 05/27/2020
|  | Special Assistant | DT200085 | 03/27/2020
| Office of the Secretary | Deputy Director for Scheduling and Advance Operations | DT190124 | 09/23/2019
|  | Deputy White House Liaison | DT200064 | 01/09/2020
|  | Press Advance | DT200015 | 11/12/2019
|  | Senior Advisor | DT190123 | 08/28/2019
|  | Senior Assistant for Scheduling and Advance | DT200028 | 11/12/2019
|  | Special Assistant (4) | DT200103 DT200074 DT200092 DT200090 | 04/21/2020 02/11/2020 03/19/2020 03/16/2020
DEPARTMENT OF THE TREASURY | Office of the Assistant Secretary (Economic Policy) | Senior Advisor Special Advisor (2) | DY200074 DY200077 DY200011 | 04/01/2020 04/08/2020 11/12/2019
| Office of the Assistant Secretary (Legislative Affairs) | Special Advisor (2) | DY200032 DY200021 | 01/24/2020 12/19/2019
|  | Special Assistant | DY190091 | 07/29/2019
| Office of the Assistant Secretary (Public Affairs) | Confidential Assistant Director of Public Affairs (Digital Strategies) | DY190101 DY190090 | 08/26/2019 07/29/2019
|  | Director, Public Affairs (Terrorism and Financial Intelligence) | DY200014 | 11/20/2019
|  | Public Affairs Specialist | DY200090 | 05/13/2020
|  | Senior Advisor | DY190100 | 08/21/2019
|  | Special Assistant for Public Affairs | DY200091 | 05/13/2020
| Office of the Assistant Secretary (Tax Policy) | Senior Advisor for Tax Policy | DY200094 | 05/13/2020
| Office of the Assistant Secretary for Financial Institutions | Senior Advisor for Financial Institutions | DY200101 | 05/31/2020
| Office of the Assistant Secretary for Financial Markets | Special Advisor for Financial Markets | DY200093 | 05/13/2020
|  | Special Advisor | DY200005 | 10/29/2019
| Office of the General Counsel | Special Assistant | DY200017 | 12/03/2019
| Secretary of the Treasury | Advance Representative | DY200030 | 01/10/2020
|  | Associate Director of Scheduling and Advance | DY190086 | 07/11/2019
|  | Special Advisor (2) | DY200078 DY200012 | 04/13/2020 11/12/2019
|  | Special Assistant (2) | DY200041 DY200075 | 01/30/2020 04/02/2020
|  | White House Liaison | DY200073 | 03/23/2020
| Treasurer of the United States | Senior Advisor | DY200033 | 01/16/2020
| Office of the Under Secretary for International Affairs | Special Assistant Special Advisor | DY190102 DY190120 | 08/26/2019 10/01/2019
| Office of the Under Secretary for Terrorism and Financial Intelligence | Special Assistant | DY200042 | 01/22/2020
UNITED STATES INTERNATIONAL TRADE COMMISSION | Office of the Chairman | Confidential Assistant | TC190006 | 08/06/2019
| Office of Commissioner Johanson | Staff Assistant | TC190005 | 08/07/2019
| Office of Commissioner Stayin | Staff Assistant (Legal) | TC200001 | 10/22/2019
| Office of Commissioner Schmidtlein | Staff Assistant (Legal) | TC200003 | 10/22/2019
| Office of Commissioner Karpel | Staff Assistant (Legal) | TC200006 | 12/03/2019
DEPARTMENT OF VETERANS AFFAIRS | Board of Veterans' Appeals Office of Public Affairs | Senior Advisor Press Secretary | DV200060 DV190078 | 05/12/2020 07/23/2019
| Office of the Assistant Secretary for Congressional and Legislative Affairs | Special Advisor | DV200048 | 03/18/2020
|  | Special Assistant | DV200011 | 11/20/2019
| Office of the Assistant Secretary for Public and Intergovernmental Affairs | Director of Media Affairs | DV190086 | 09/30/2019
| Office of the General Counsel | Special Assistant (Attorney Advisor) | DV200003 | 10/11/2019

Authority: 5 U.S.C. 3301 and 3302; E.O.10577, 3 CFR, 1954-1958 Comp., p.218.

Office of Personnel Management.
Alexys Stanley,
Regulatory Affairs Analyst.

[FR Doc. 2021-02257 Filed 2-4-21; 8:45 am]

BILLING CODE 6325-39-P